ENVIRONMENTAL PROTECTION AGENCY

[EPA-HQ-OPP-2018-0014; FRL-9983-91]

Receipt of Requests To Voluntarily Cancel Certain Pesticide Registrations and Amend Registrations To Terminate Certain Uses

AGENCY: Environmental Protection Agency (EPA).

ACTION: Notice.

SUMMARY: In accordance with the Federal Insecticide, Fungicide, and Rodenticide Act (FIFRA), EPA is issuing a notice of receipt of requests by the registrants to voluntarily cancel certain pesticide product registrations and to amend certain product registrations to terminate uses. EPA intends to grant these requests at the close of the comment period for this announcement unless the Agency receives substantive comments within the comment period that would merit its further review of the requests, or unless the registrants withdraw their requests. If these requests are granted, any sale, distribution, or use of products listed in this notice will be permitted after the registrations have been cancelled and uses terminated only if such sale, distribution, or use is consistent with the terms as described in the final order.

DATES: Comments must be received on or before November 16, 2018.

ADDRESSES: Submit your comments, identified by docket identification (ID) number EPA-HQ-OPP-2018-0014, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

Submit written withdrawal request by mail to: Information Technology and Resources Management Division (7502P), Office of Pesticide Programs, Environmental Protection Agency, 1200 Pennsylvania Ave. NW, Washington, DC 20460-0001. ATTN: Christopher Green.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Christopher Green, Information Technology and Resources Management Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This notice announces receipt by EPA of requests from pesticide registrants to cancel certain pesticide products and amend product registrations to terminate certain uses registered under FIFRA section 3 (7 U.S.C. 136a) or 24(c) (7 U.S.C. 136v(c)). The affected products and the registrants making the requests are identified in Tables 1, 2 and 3 of this unit.

Unless a request is withdrawn by the registrant or if the Agency determines that there are substantive comments that warrant further review of this request, EPA intends to issue an order in the Federal Register canceling and amending the affected registrations.

Table 1—Product Registrations With Pending Requests for Cancellation
Registration No. | Company No. | Product name | Active ingredients
100-974 | 100 | Platinum Ridomil Gold | Thiamethoxam & Metalaxyl-M.
100-1149 | 100 | CGA-329351 138 ES | Metalaxyl-M.
100-1184 | 100 | Cruiser XL Insecticide and Fungicide Prepack | Metalaxyl-M; Fludioxonil & Thiamethoxam.
100-1208 | 100 | Cruiser Extreme | Azoxystrobin; Metalaxyl-M; Fludioxonil & Thiamethoxam.
100-1284 | 100 | Dynasty Extreme | Myclobutanil; Metalaxyl-M; Fludioxonil & Azoxystrobin.
100-1335 | 100 | Difenoconazole/Mefenoxam FS | Difenoconazole & Metalaxyl-M.
100-1413 | 100 | Ariel | Metalaxyl-M.
352-754 | 352 | Dupont Imazapyr 75XP Herbicide | Imazapyr.
432-1578 | 432 | Lineage Clearstand | Metsulfuron & Imazapyr.
499-373 | 499 | Whitmire PT 289 Orthense | Acephate.
1381-226 | 1381 | Imidacloprid 60% WSP ORN Insecticide | Imidacloprid.
2217-759 | 2217 | Embark 2-S Plant Growth Regulator | Mefluidide, diethanolamine salt.
2217-766 | 2217 | Embark 2-L Plant Growth Regulator | N-(2,4-Dimethyl-5-(((trifluoromethyl)sulfonyl)amino)phenyl)acetamide, potassium salt.
2217-767 | 2217 | Mefluidide 2-S Concentrate | Mefluidide, diethanolamine salt.
2217-768 | 2217 | Embark E-Z-TU-USE Plant Grown Regulator | Mefluidide, diethanolamine salt.
2217-802 | 2217 | EH 1135 PGR | Imazethapyr, ammonium salt; Imazapyr & Mefluidide, diethanolamine salt.
55146-81 | 55146 | Flouronil Fungicide | Chlorothalonil & Metalaxyl-M.
65331-6 | 65331 | Amitraz Technical | Amitraz.
66222-135 | 66222 | Thidiazuron 50 WSB | Thidiazuron.
66330-24 | 66330 | Captan 4 Flowable | Captan.
66330-26 | 66330 | Captan 50 WP | Captan.
66330-27 | 66330 | Captan Garden Spray | Captan.
66330-209 | 66330 | Captan 80W | Captan.
66330-235 | 66330 | Captan 4 Flowable | Captan.
66330-238 | 66330 | Captan 4 Flowable Seed Protectant | Captan.
66330-239 | 66330 | Captec 4L Captan Flowable Fungicide | Captan.
66330-242 | 66330 | Mepiquat Chloride Liquid Concentrate | Mepiquat chloride.
66330-243 | 66330 | Mepichlor Pill | Mepiquat chloride.
66330-280 | 66330 | Mepplus Concentrate | Mepiquat chloride & Bacillus cereus strain BP01.
66330-285 | 66330 | Mepplus Pill | Mepiquat chloride & Bacillus cereus strain BP01.
66330-346 | 66330 | Pix Concentrate Plant Regulator | Mepiquat chloride.
66330-348 | 66330 | MC-6 | Mepiquat chloride.
66330-393 | 66330 | ARY 0494-006 | Bacillus cereus strain BP01 & Mepiquat chloride.
CO-080004 | 400 | Enhance | Captan & Carboxin.
CO-090006 | 5481 | Orthene Turf, Tree & Ornamental WSP | Acephate.
FL-050004 | 70506 | Surflan as Specialty Herbicide | Oryzalin.
ME-160002 | 71512 | Omega 500F | Fluazinam.
OR-040033 | 10163 | Onager 1E | Hexythiazox.
OR-120018 | 59639 | Valor Herbicide | Flumioxazin.
WA-040021 | 228 | Riverdale Aquaneat Aquatic Herbicide | Glyphosate-isopropylammonium.
WI-130001 | 100 | Dual Magnum Herbicide | S-Metolachlor.
WY-070002 | 56228 | DRC-1339 Concentrate Staging Label | Starlicide.

Table 2—Product Registrations With Pending Requests for Amendment
Registration No. | Company No. | Product name | Active ingredient | Uses to be terminated
11678-55 | 11678 | Magnate Technical | Imazalil | Seed treatment uses.
43813-4 | 43813 | Fungaflor 75 SP | Imazalil sulphate | Seed treatment uses.
66222-1 | 66222 | Captan 50-WP | Captan | Turf.
66330-209 | 66330 | Captan 80W | Captan | Turf.
66330-234 | 66330 | Captan 50 Wettable Powder | Captan | Turf.
66330-239 | 66330 | Captec 4L Captan Flowable Fungicide | Captan | Turf.

Table 3 of this unit includes the names and addresses of record for all registrants of the products listed in Table 1 and Table 2 of this unit, in sequence by EPA company number. This number corresponds to the first part of the EPA registration numbers of the products listed in Table 1 and Table 2 of this unit.

Table 3—Registrants Requesting Voluntary Cancellation and/or Amendments
EPA Company No. | Company name and address
100 | Syngenta Crop Protection, LLC, 410 Swing Road, P.O. Box 18300, Greensboro, NC 27419-8300.
228 | Nufarm Americas, Inc., 4020 Aerial Center Pkwy., Ste. 101, Morrisville, NC 27560.
352 | E.I. Du Pont De Nemours and Company, Attn: Manager, US Registration, DuPont Crop Protection, Chestnut Run Plaza (CRP 720/2E5), 974 Centre Rd., Wilmington, DE 19805.
400 | MacDermid Agricultural Solutions, Inc., C/O Arysta LifeScience North America, LLC, 15401 Weston Parkway, Suite 150, Cary, NC 27513.
432 | Bayer Environmental Science, A Division of Bayer CropScience, LP, 2 T. W Alexander Drive, Research Triangle Park, NC 27709.
499 | BASF Corporation, 26 Davis Drive, P.O. Box 13528, Research Triangle Park, NC 27709-3528.
1381 | Winfield Solutions, LLC, P.O. Box 64589, St. Paul, MN 55164-0589.
2217 | PBI/Gordon Corp., 1217 West 12th Street, P.O. Box 014090, Kansas City, MO 64101-0090.
5481 | AMVAC Chemical Corporation, 4695 MacArthur Court, Suite 1200, Newport Beach, CA 92660-1706.
10163 | Gowan Company, P.O. Box 5569, Yuma, AZ 85366.
11678 | ADAMA Makhteshim LTD., Agent Name: Makhteshim-Agan of North America, Inc., D/B/A ADAMA, 3120 Highwoods Blvd., Suite 100, Raleigh, NC 27604.
43813 | Janssen PMP, A Division of Janssen Pharmaceutica NV, 1125 Trenton-Harbourton Rd., Titusville, NJ 08560-0200.
55146 | Nufarm Americas, Inc., AGT Division, 4020 Aerial Center Pkwy., Suite 101, Morrisville, NC 27560.
56228 | U.S. Department of Agriculture, Animal and Plant Health Inspection Service, 4700 River Road, Unit 149, Riverdale, MD 20737.
59639 | Valent U.S.A. LLC, 1600 Riviera Avenue, Suite 200, Walnut Creek, CA 94596-8025.
65331 | Merial, Inc., 3239 Satellite Blvd., Duluth, GA 30096.
66222 | Makhteshim Agan of North America, Inc., D/B/A Adama, 3120 Highwoods Blvd., Suite 100, Raleigh, NC 27604.
66330 | Arysta LifeScience North America, LLC, 15401 Weston Parkway, Suite 150, Cary, NC 27513.
70506 | United Phosphorus, Inc., 630 Freedom Business Center, Suite 402, King of Prussia, PA 19406.
71512 | ISK Biosciences Corporation, 7470 Auburn Road, Suite A, Concord, OH 44077.

III. What is the agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

The registrants listed in Table 3 of Unit II have requested that EPA waive the 180-day comment period. Accordingly, EPA will provide a 30-day comment period on the proposed requests.

IV. Procedures for Withdrawal of Request

Registrants who choose to withdraw a request for product cancellation or use termination should submit the withdrawal in writing to the person listed under FOR FURTHER INFORMATION CONTACT. If the products have been subject to a previous cancellation or termination action, the effective date of cancellation or termination and all other provisions of any earlier cancellation or termination action are controlling.

V. Provisions for Disposition of Existing Stocks

Existing stocks are those stocks of registered pesticide products that are currently in the United States and that were packaged, labeled, and released for shipment prior to the effective date of the cancellation action.

In any order issued in response to these requests for cancellation of product registrations and for amendments to terminate uses, EPA proposes to include the following provisions for the treatment of any existing stocks of the products listed in Tables 1 and 2 of Unit II.

A. For Product 432-1578

The registrant has requested to the Agency via letter dated November 14, 2017 to sell existing stocks for an 18-month period, until June 2019, for product 432-1578.

B. For Products 2217-759, 2217-766, 2217-767, 2217-768 & 2217-802

The registrant has requested to the Agency via letter, to sell existing stocks for a 2-year period for products 2217-759, 2217-766, 2217-767, 2217-768 & 2217-802.

C. For Products 66330-24, 66330-26, 66330-27, 66330-209, 66330-235, 66330-238, & 66330-239

The registrant has requested to the Agency via letter, to sell existing stocks for an 18-month period for products 66330-24, 66330-26, 66330-27, 66330-209, 66330-235, 66330-238, & 66330-239.

For all other voluntary product cancellations, identified in Table 1 of Unit II, registrants will be permitted to sell and distribute existing stocks of voluntarily canceled products for 1 year after the effective date of the cancellation, which will be the date of publication of the cancellation order in the Federal Register. Thereafter, registrants will be prohibited from selling or distributing the products identified in Table 1 of Unit II, except for export consistent with FIFRA section 17 (7 U.S.C. 136o) or for proper disposal.

Once EPA has approved product labels reflecting the requested amendments to terminate uses, identified in Table 2 of Unit II, registrants will be permitted to sell or distribute products under the previously approved labeling for a period of 18 months after the date of Federal Register publication of the cancellation order, unless other restrictions have been imposed. Thereafter, registrants will be prohibited from selling or distributing the products whose labels include the terminated uses identified in Table 2 of Unit II, except for export consistent with FIFRA section 17 or for proper disposal.

Persons other than the registrant may sell, distribute, or use existing stocks of canceled products and products whose labels include the terminated uses until supplies are exhausted, provided that such sale, distribution, or use is consistent with the terms of the previously approved labeling on, or that accompanied, the canceled products and terminated uses.

Authority: 7 U.S.C. 136 et seq.

Dated: September 19, 2018.
Delores Barber,
Director, Information Technology and Resources Management Division, Office of Pesticide Programs.

[FR Doc. 2018-22658 Filed 10-16-18; 8:45 am]

BILLING CODE 6560-50-P